DEPARTMENT OF DEFENSE

Department of the Army

[Docket ID: USA-2016-HQ-0006]

Privacy Act of 1974; System of Records

AGENCY: Department of the Army, DoD.

ACTION: Notice to alter a System of Records.

SUMMARY: The Department of the Army proposes to alter a system of records, A0040-31b DASG, entitled “Research and Experimental Case Files”. This is now a closed system; no new records may be added. Records will be used to enable follow up of volunteers who participated in Army medical research projects concerning chemical agents for the purpose of assessing risks/hazards to them, and for retrospective medical/scientific evaluation and future scientific and legal significance.

DATES: Comments will be accepted on or before April 11, 2016. This proposed action will be effective on the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22315-3827 or by phone at 703-428-7499.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Office Web site at http://dpcld.defense.gov/.

The proposed system report, as required by 5 U.S.C 552a(r) of the Privacy Act of 1974, as amended, was submitted on February 16, 2016, to the House Committee on Oversight and Government Reform, the Senate Committee on Governmental Affairs, and the Office of Management and Budget (OMB) pursuant to paragraph 4c of Appendix I of OMB Circular No. A-130, Federal Agency Responsibilities for Maintaining Records About Individuals,” dated February 8, 1996 (February 20, 1996, 61 FR 6427).

Dated: March 7, 2016.
Aaron Siegel,
Alternate OSD Federal Register Liaison Officer, Department of Defense.

A0040-31b DASG

System name:

Research and Experimental Case Files (April 4, 2003, 68 FR 16484)

Changes:

* * * * *

System name:

Delete entry and replace with “CLOSED—Research and Experimental Case Files.”

System location:

Delete entry and replace with “U.S. Army Medical Research Institute of Chemical Defense (USAMRICD), 2900 Ricketts Point Road, Aberdeen Proving Ground, MD 21010-5400.”

Categories of individuals covered by the system:

Delete entry and replace with “This is a closed system—no new records will be added. Volunteers (military personnel, Federal civilian employees, state prisoners) who participated in Army medical research which included potential chemical agents and/or antidotes from the early 1950's until the program ended in 1975.”

Categories of records in the system:

Delete entry and replace with “Name, Social Security Number (SSN), military service number, history and record of patient treatment, to include individual pre-test physical examination records and test records of performance and biomedical parameters measured during and after test exposure.”

Authority for maintenance of the system:

Delete entry and replace with “10 U.S.C. 3013, Secretary of the Army; Army Regulation 40-31, Armed Forces Institute of Pathology and Armed Forces Histopathology Centers; DoD Instruction 5154.30, Armed Forces Medical Examiner System (AFMES) Operations; 45 CFR part 160, Department of Health and Human Services General Administrative Requirements; 45 CFR part 164, Department of Health and Human Services Security and Privacy; and E.O. 9397 (SSN), as amended.”

Purpose(s):

Delete entry and replace with “Records were used to enable follow up of volunteers who participated in Army medical research projects concerning chemical agents for the purpose of assessing risks/hazards to them, and for retrospective medical/scientific evaluation and future scientific and legal significance.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

Information may be disclosed to the Department of Veterans Affairs in connection with benefits determinations.

The DoD Blanket Routine Uses set forth at the beginning of the Army's compilation of systems of records notices may apply to this system. The complete list of DoD Blanket Routine Uses can be found online at: http://dpcld.defense.gov/Privacy/SORNsIndex/BlanketRoutineUses.aspx.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.”

Policies and practices for storing, retrieving, accessing, retaining, and disposing of records in the system:

Storage:

Delete entry and replace with “Paper, electronic storage media, and microfiche.”

Retrievability:

Delete entry and replace with “Individual's name, military service number, or SSN.”

Safeguards:

Delete entry and replace with “Records are maintained in a controlled area accessible only to authorized personnel. Access to personally identifiable information in this system of records is restricted to those who require the data in the performance of the official duties. The USAMRICD utilizes ID badges, closed circuit television, and electronic key access as physical security measures that ensure only authorized personnel have access to the records storage area. The electronic files are stored on compact disk storage media and secured in the same location as the paper records. The disks are accessed on Common Access Card (CAC) login-secured computers and then stored when not in use. Electronic copies of the records are not stored on any computer.”

Retention and disposal:

Delete entry and replace with “Electronic records will be owned by the Army and maintained by the system owner at USAMRICD, 2900 Ricketts Point Road, Aberdeen Proving Ground, MD 21010-5400. Original hard copy records are now stored at the National Archives, 1 Archives Drive, St. Louis MO 63138-1001, for permanent retention. Records relating to research studies that require a signed consent form from participants will be retained for 75 years. Records will be destroyed by shredding or deleting.”

System manager(s) and address:

Delete entry and replace with “Chief Information Officer, US Army Medical Research Institute of Chemical Defense (USAMRICD), 2900 Ricketts Point Road, Aberdeen Proving Ground, MD 21010-5400.”

Notification procedure:

Delete entry and replace with “Individuals seeking to determine whether information about themselves is contained in this system should address written inquiries to the FOIA/Privacy Act Officer, U.S. Army Medical Research Institute of Chemical Defense (USARMRICD), 2900 Ricketts Point Road, Aberdeen Proving Ground, MD 21010-5400.

Individual should provide full name, military service number or SSN, current address, and telephone number of the requester.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to information about themselves contained in this system should address written inquiries to the FOIA/Privacy Act Officer, U.S. Army Medical Research Institute of Chemical Defense (USARMRICD), 2900 Ricketts Point Road, Aberdeen Proving Ground, MD 21010-5400.

Individual should provide full name, military service number or SSN, current address, and telephone number of the requester.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Contesting record procedures:

Delete entry and replace with “The Army's rules for accessing records, and for contesting contents and appealing initial agency determinations are contained in 32 CFR part 505, Army Privacy Program; or may be obtained from the system manager.”

Record source categories:

Delete entry and replace with “Information was received from the individual through test and questionnaire forms completed at test location; from medical authorities and sources by evaluation of data collected previous to, during, and following tests while individual was in this research program.”

* * * * *

[FR Doc. 2016-05424 Filed 3-10-16; 8:45 am]

BILLING CODE 5001-06-P